DEPARTMENT OF DEFENSE

Department of the Army

Army Science Board; Notice of Closed Meeting

In accordance with Section 10(a)(2) of the Federal Advisory Committee Act (Pub. L. 92-463), announcement is made of the following Committee Meeting:

Name of Committee: Army Science Board (ASB).

Date of Meeting: 17-19 April 2001.

Time of Meeting: 0800-1700, 19 April 2001.

Place: Presidential Towers, Arlington, VA.

Agenda: The Army Science Board's (ASB) Ad Hoc Study on “Adapting Future Wireless Communication” to examine potential future commercial wireless capabilities and recommend which capabilities may have applicability for the Objective Force. This meeting will be closed to the public in accordance with Section 552b(c) of Title 5, U.S.C., specifically paragraph (1) thereof, and Title 5, U.S.C., Appendix 2, subsection 10(d). The proprietary matters to be discussed are so inextricably intertwined so as to preclude opening any portion of this meeting. For further information, please contact Mr. Jeff Ozimek, Army Science Board Staff Assistant, 732- 532-5496 or Ms. Lisa Calabrese, Army Science Board Staff Assistant Assistant, 732-427-4646.

Wayne Joyner,
Program Support Specialist, Army Science Board.

Tentative Agenda, Army Science Board, 17-19 April 2001

Tuesday 17 April 2001

0800-0830 Internal ASB time

0830-0930 SIGCEN—Thomas Mims

0930-1030 Time Domain

1030-1045 Break

1045-1145 Harris

1145-1230 Lunch

1230-1330 Palm

1330-1430 Aether—Ken Whitehead

1430-1445 Break

1445-1545 Electric Fuel—Ron Putt

1545-1700 Internal ASB time

Wednesday 18 April 2001

0800-0830 Internal ASB time

0830-0930 Gilder Report—Nick Tredennick

0930-1030 Motorola

1030-1045 Break

1045-1145 Speedcom

1145-1230 Lunch

1230-1330 Global Star

1330-1430 Raytheon—Dr. Manfred Unkauf, Joseph Rodriguez

1430-1445 Break

1445-1545 Ellipso—Gerald Hellman, Jay Brosius, David Casteale, Jim Bailey

1545-1700 Internal ASB time

Thursday 19 April 2001

0800-0830 Internal ASB time

0830-1030 DARPA

1030-1045 Break

1045-1145 DARPA

1145-1230 Lunch

1230-1600 Wall Street Briefs

1600-1700 Internal ASB time

[FR Doc. 01-9519 Filed 4-16-01; 8:45 am]

BILLING CODE 3770-08-M